DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 governs the application, processing, and disposition of petitions for modification of mandatory safety standards. Any mine operator or representative of miners may petition for an alternative method of complying with an existing safety standard. MSHA reviews the content of each submitted petition, assesses the mine in question, and ultimately issues a decision on the petition. This notice includes a list of petitions for modification that were granted after MSHA's review and investigation, between January 1, 2024, and June 30, 2024.

ADDRESSES: Copies of the final decisions are posted on MSHA's website at https://www.msha.gov/regulations/rulemaking/petitions-modification. The public may inspect the petitions and final decisions in person at MSHA, Office of Standards, Regulations, and Variances, 201 12th Street South, Arlington, Virginia, between 9:00 a.m. and 5:00 p.m. Monday through Friday, except federal holidays. Before visiting MSHA in person, call 202-693-9455 to make an appointment, in keeping with the Department of Labor's COVID-19 policy. Special health precautions may be required.

FOR FURTHER INFORMATION CONTACT: S. Aromie Noe, Director, Office of Standards, Regulations, and Variances at 202-693-9440 (voice), Noe.Song-Ae.A@dol.gov (email), or 202-693-9441 (facsimile). These are not toll-free numbers.

SUPPLEMENTARY INFORMATION:

I. Introduction

Under section 101(c) of the Federal Mine Safety and Health Act of 1977, any mine operator or representative of miners may petition to use an alternative approach to comply with a mandatory safety standard. In response, the Secretary of Labor (Secretary) or his or her designee may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision. In other instances, MSHA may deny, dismiss, or revoke a petition for modification. In accordance with 30 CFR 44.5, MSHA publishes every final action granting a petition for modification.

II. Granted Petitions for Modification

On the basis of the findings of MSHA's investigation, and as designee of the Secretary, MSHA granted or partially granted the petitions for modification below. Since the previous Federal Register notice (89 FR 6553) included petitions granted through December 31, 2023, the following are petitions granted between January 1, 2024, and June 30, 2024. The granted petitions are shown in the order that MSHA received them.

• Docket Number: M-2022-002-M.

FR Notice: 87 FR 13005 (03/08/2022).

Petitioner: Nevada Gold Mines, LLC, 1655 Mountain City Hwy., Elko, NV 89801.

Mine: Exodus Mine, MSHA ID No. 26-02661, located in Eureka County, Nevada.

Regulation Affected: 30 CFR 57.11052(d) (Refuge areas).

• Docket Number: M-2022-003-M.

FR Notice: 87 FR 13007 (03/08/2022).

Petitioner: Nevada Gold Mines, LLC, 1655 Mountain City Hwy., Elko, NV 89801.

Mine: Pete Bajo Mine, MSHA ID No. 26-02689, located in Eureka County, Nevada.

Regulation Affected: 30 CFR 57.11052(d) (Refuge areas).

• Docket Number: M-2022-004-M.

FR Notice: 87 FR 13006 (03/08/2022).

Petitioner: Nevada Gold Mines, LLC, 1655 Mountain City Hwy., Elko, NV 89801.

Mine: Leeville Mine, MSHA ID No. 26-02512, located in Eureka County, Nevada.

Regulation Affected: 30 CFR 57.11052(d) (Refuge areas).

• Docket Number: M-2022-007-M.

FR Notice: 87 FR 18821 (03/31/2022).

Petitioner: Nevada Gold Mines, LLC, 1655 Mountain City Hwy., Elko, NV 89801.

Mine: Twin Underground Mine, MSHA ID No. 26-02693, located in Humboldt County, Nevada.

Regulation Affected: 30 CFR 57.11052(d) (Refuge areas).

• Docket Number: M-2022-008-M.

FR Notice: 87 FR 18822 (03/31/2022).

Petitioner: Nevada Gold Mines, LLC, 1655 Mountain City Hwy., Elko, NV 89801.

Mine: Meikle Mine, MSHA ID No. 26-02246, located in Eureka County, Nevada.

Regulation Affected: 30 CFR 57.11052(d) (Refuge areas).

• Docket Number: M-2022-010-M.

FR Notice: 87 FR 28843 (05/11/2022).

Petitioner: Nevada Gold Mines, LLC, 1655 Mountain City Hwy., Elko, NV 89801.

Mine: Cortez District-Underground Mine, MSHA ID No. 26-02573, located in Lander County, Nevada.

Regulation Affected: 30 CFR 57.11052(d) (Refuge areas).

• Docket Number: M-2022-011-M.

FR Notice: 87 FR 28842 (05/11/2022).

Petitioner: Nevada Gold Mines, LLC, 1655 Mountain City Hwy., Elko, NV 89801.

Mine: Goldrush Mine, MSHA ID No. 26-02822, located in Eureka County, Nevada.

Regulation Affected: 30 CFR 57.11052(d) (Refuge areas).

• Docket Number: M-2022-012-C.

FR Notice: 87 FR 50888 (08/18/2022).

Petitioner: UC Mining, LLC, 835 State Route 1179, Waverly, Kentucky 42462.

Mine: UC Mining, LLC Mine, MSHA ID No. 15-02709, located in Union County, Kentucky.

Regulation Affected: 30 CFR 75.1700 (Oil and gas wells).

• Docket Number: M-2022-013-C.

FR Notice: 87 FR 53016 (08/30/2022).

Petitioner: Harrison County Coal Resources, Inc., 464 North Portal Road, Wallace, West Virginia 26448.

Mines: Harrison County Mine, MSHA ID No. 46-01318, located in Wetzel County, West Virginia.

Regulation Affected: 30 CFR 75.1700 (Oil and gas wells).

• Docket Number: M-2022-021-C.

FR Notice: 87 FR 64252 (10/24/2022).

Petitioner: M&D Anthracite Coal Company, 71 Hill Road, Hegins, Pennsylvania, 17938.

Mine: Slope #1, MSHA ID No. 36-09976, located in Schuylkill County, Pennsylvania. Regulation Affected: 30 CFR 75.1400 (Hoisting equipment; general).

• Docket Number: M-2022-022-C.

FR Notice: 87 FR 64255 (10/24/2022).

Petitioner: M&D Anthracite Coal Company, 71 Hill Road, Hegins, Pennsylvania 17938.

Mine: Slope #1, MSHA ID No. 36-09976, located in Schuylkill County, Pennsylvania. Regulation Affected: 30 CFR 75.1002(a) (Installation of electric equipment and conductors; permissibility).

• Docket Number: M-2022-013-M.

FR Notice: 88 FR 10548 (02/21/2023).

Petitioner: Genesis Alkali, LLC, 580 Westvaco Road, Green River, Wyoming 82935.

Mine: Westvaco Mine, MSHA ID No. 48-00152, located in Sweetwater County, Wyoming.

Regulation Affected: 30 CFR 57.22305 (Approved equipment (III mines)).

• Docket Number: M-2022-035-C.

FR Notice: 88 FR 17872 (03/24/2023).

Petitioner: Ramaco Resources, LLC., P.O. Box 219, Verner, West Virginia 25650.

Mines: Michael Powellton Deep Mine, MSHA ID No. 46-09602, located in Logan County, West Virginia; Crucible Deep Mine, MSHA ID No. 46-09614, located in Logan County, West Virginia; Berwind Deep Mine, MSHA ID No. 46-09533, located in McDowell County, West Virginia; Triad No. 2, MSHA ID No. 46-09628, located in McDowell County, West Virginia.

Regulation Affected: 30 CFR 75.1002(a) (Installation of electric equipment and conductors; permissibility).

• Docket Number: M-2022-036-C.

FR Notice: 88 FR 17876 (03/24/2023).

Petitioner: Ramaco Resources, LLC., P.O. Box 219, Verner, West Virginia 25650.

Mines: Michael Powellton Deep Mine, MSHA ID No. 46-09602, located in Logan County, West Virginia; Crucible Deep Mine, MSHA ID No. 46-09614, located in Logan County, West Virginia; Berwind Deep Mine, MSHA ID No. 46-09533, located in McDowell County, West Virginia; Triad No. 2, MSHA ID No. 46-09628, located in McDowell County, West Virginia.

Regulation Affected: 30 CFR 75.507-1(a) (Electric equipment other than power-connection points; outby the last open crosscut; return air; permissibility requirements).

• Docket Number: M-2022-037-C.

FR Notice: 88 FR 17874 (03/24/2023).

Petitioner: Ramaco Resources, LLC., P.O. Box 219, Verner, West Virginia 25650.

Mines: Michael Powellton Deep Mine, MSHA ID No. 46-09602, located in Logan County, West Virginia; Crucible Deep Mine, MSHA ID No. 46-09614, located in Logan County, West Virginia; Berwind Deep Mine, MSHA ID No. 46-09533, located in McDowell County, West Virginia; Triad No. 2, MSHA ID No. 46-09628, located in McDowell County, West Virginia.

Regulation Affected: 30 CFR 75.500(d) (Permissible electric equipment).

• Docket Number: M-2023-002-C.

FR Notice: 88 FR 20559 (04/06/2023).

Petitioner: Rosebud Mining, LLC, 301 Market Street, Kittanning, PA 16201.

Mine: Cherry Tree Mine, MSHA ID No. 36-09224, located in Clearfield County, Pennsylvania.

Regulation Affected: 30 CFR 75.1700 (Oil and gas wells).

• Docket Number: M-2023-003-C.

FR Notice: 88 FR 23101 (04/14/2023).

Petitioner: Marion County Coal Resources, Inc., 151 Johnnycake Road, Metz, West Virginia 26585.

Mine: Marion County Mine, MSHA ID No. 46-01433, located in Marion County, West Virginia.

Regulation Affected: 30 CFR 75.1700 (Oil and gas wells).

• Docket Number: M-2023-013-C.¹

¹ This granted petition is based on an amended Proposed Decision and Order issued on February 16, 2024. The original Proposed Decision and Order was issued on December 11, 2023.

FR Notice: 88 FR 33649.

Petitioner: Mach Mining, LLC, P.O. Box 300, Johnston City, IL 62951.

Mine: Mach #1 Mine, MSHA ID No. 11-03141, located in Williamson County, Illinois.

Regulation Affected: 30 CFR 75.1909(b)(6), Nonpermissible diesel-powered equipment; design and performance requirements.

• Docket Number: M-2023-002-M.

FR Notice: 88 FR 34547 (05/30/2023).

Petitioner: U.S. Silica Company, 4800 Oklahoma Hwy 1 North, Mill Creek, Oklahoma 74856.

Mine: Mill Creek Plant #37, MSHA ID No. 34-00377, located in Johnston County, Oklahoma.

Regulation Affected: 30 CFR 56.13020 (Use of compressed air).

• Docket Number: M-2023-018-C.

FR Notice: 88 FR 61618 (09/07/2023).

Petitioner: The Coteau Properties Company, 204 county Rd 15, Beulah, ND 58523.

Mine: Freedom Mine, MSHA ID No. 32-00595, located in Mercer County, North Dakota.

Regulation Affected: 30 CFR 77.1607(u) (Loading and haulage equipment; operation).

Song-ae Aromie Noe,
Director, Office of Standards, Regulations, and Variances.

[FR Doc. 2024-18923 Filed 8-22-24; 8:45 am]

BILLING CODE 4520-43-P